GENERAL SERVICES ADMINISTRATION

[FMR Bulletin C-2024-01]

Guidelines for Safety Station Programs in Federal Facilities

AGENCY: Department of Health and Human Services and General Services Administration.

ACTION: Notice.

SUMMARY: The U.S. Department of Health and Human Services (HHS) and the U.S. General Services Administration (GSA) jointly issue this Federal Management Regulation (FMR) bulletin titled “Guidelines for Safety Station Programs in Federal Facilities.” These guidelines were prepared, in part, in response to congressional direction contained in materials that accompanied the Consolidated Appropriations Act, 2023 (Pub. L. 117-328). See the SUPPLEMENTARY INFORMATION section for further details.

DATES: December 22, 2023.

FOR FURTHER INFORMATION CONTACT: For further clarification of content, contact Christopher Coneeney, Supervisory Realty Specialist, Office of Government-wide Policy, U.S. General Services Administration, 1800 F Street NW, Washington, DC 20405; at 202-208-2956; or chris.coneeney@gsa.gov.

SUPPLEMENTARY INFORMATION: A provision in House of Representatives Report No. 117-393, which accompanied the bill making appropriations for Financial Services and General Government for the fiscal year ending September 30, 2023 (the House Report), directed GSA, in coordination with HHS as the lead agency with health policy expertise, to update the FMR bulletin on Guidelines for Public Access Defibrillation Programs in Federal Facilities, which became effective on August 14, 2009 (the 2009 Bulletin), to reflect advances in automated external defibrillator (AED) technologies and to examine whether AEDs should be required in Federally owned buildings under the custody and control of GSA. The report may be found at https://www.congress.gov/117/crpt/hrpt393/CRPT-117hrpt393.pdf. The House Report acknowledged that sudden cardiac arrest is a leading cause of death for Americans and that early intervention and timely use of an AED significantly improves the chances of survival. It further noted that, in 2001, Congress required the creation of a public access defibrillator (PAD) program that included voluntary guidelines for deployment of AEDs in Federal buildings and that, in 2009, GSA and HHS issued the above-referenced FMR bulletin.

In addition to the House Report, the joint explanatory statement accompanying division E—Financial Services and General Government Appropriations Act, 2023, of the Consolidated Appropriations Act, 2023 (the Joint Explanatory Statement), directed HHS and GSA to examine whether AEDs should be required in federally owned buildings under the custody and control of GSA and to issue an updated FMR bulletin no later than one year after enactment of the Consolidated Appropriations Act, 2023. The link to the Joint Explanatory Statement can be found at https://www.appropriations.senate.gov/imo/media/doc/Division%20E%20-%20FSGG%20Statement%20FY23.pdf.

Accordingly, this bulletin cancels and replaces in its entirety the 2009 Bulletin and provides updated information for establishing an agency safety station program, including public access AEDs, in Federally owned buildings under the jurisdiction, custody and control of GSA.

The revised guidelines provide a general framework and basic information for the essential elements of designing and implementing a safety station program in Federal facilities and includes the latest updates in (a) PAD programs and AED technologies since the 2009 Bulletin issuance, (b) opioid reversal agents and (c) hemorrhagic control. Safety station program configurations are flexible and can be designed to accommodate all types of Federal facilities. The configurations are modular in nature and usually include bystander-empowered components with opioid reversal agents (such as naloxone) or hemorrhagic control (such as Stop the Bleed® kits), or both, in addition to AED technologies. The guidelines do not exhaustively address or cover all aspects of a safety station program. They are aimed at outlining the key elements of a safety station program so that facility-specific detailed plans and programs can be developed in an informed manner. Safety station programs are voluntary and are not mandatory for Federal facilities. The costs and expenses to establish and operate a safety station program are the responsibility of the occupant agency or agencies sponsoring the program and not GSA or HHS, except to the extent GSA or HHS, or both, are sponsoring a program in a facility where they are occupant agencies.

The importance of keeping opioid reversal agents easily accessible has been highlighted by the U.S. Surgeon General and the Centers for Disease Control and Prevention (CDC). On April 5, 2018, Surgeon General Jerome Adams issued an advisory recommending that more individuals keep naloxone on hand. The link to the advisory can be found at https://www.hhs.gov/surgeongeneral/reports-and-publications/addiction-and-substance-misuse/advisory-on-naloxone/index.html. On October 5, 2018, the CDC's National Institute for Occupational Safety and Health (NIOSH) issued the fact sheet “Using Naloxone to Reverse Opioid Overdose in the Workplace: Information for Employers and Workers” to assist workplace decision makers in establishing a naloxone availability and use program. The link to the white paper can be found at https://www.cdc.gov/niosh/docs/2019-101/pdfs/2019-101.pdf. The Surgeon General advisory and the CDC NIOSH fact sheet highlight the importance of having opioid reversal agents in public spaces for quick access and why they should be included in an agency's safety station program.

Krystal J. Brumfield,
Associate Administrator, Office of Government-wide Policy, U.S. General Services Administration.
Rachel L. Levine,
Assistant Secretary for Health, U.S. Department of Health and Human Services.

[FR Doc. 2023-28207 Filed 12-21-23; 8:45 am]

BILLING CODE 6820-14-P